FEDERAL EMERGENCY MANAGEMENT AGENCY

44 CFR Part 67

Final Flood Elevation Determinations

AGENCY: Federal Emergency Management Agency (FEMA).

ACTION: Final rule.

SUMMARY: Base (1-percent-annual-chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATE: The date of issuance of the Flood Insurance Rate Map (FIRM) showing base flood elevations and modified base flood elevations for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR Part 67.

FEMA has developed criteria for floodplain management in floodprone areas in accordance with 44 CFR Part 60.

Interested lessees and owners of real property are encouraged to review the proof Flood Insurance Study and FIRM available at the address cited below for each community.

The base flood elevations and modified base flood elevations are made final in the communities listed below. Elevations at selected locations in each community are shown.

National Environmental Policy Act

This rule is categorically excluded from the requirements of 44 CFR Part 10, Environmental Consideration. No environmental impact assessment has been prepared.

Regulatory Flexibility Act

The Associate Director for Mitigation certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification

This final rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. * Elevation in feet (NGVD)
Arkansas
Perry County and Incorporated Areas (FEMA Docket No. 7302)
Cypress Creek:
Approximately 4,200 feet downstream of Highway 9 | *294
Approximately 2,000 feet upstream of Johnson Road | *294
Haydou Branch:
At confluence with Cypress Creek | *294
Approximately 2,200 feet upstream of Adelle Road | *357
Maps are available for inspection at the County Courthouse, Main Street and Highway 60, Perryville, Arkansas.
Maps are available for inspection at Town Hall, 104 South Johnson Street, Perry, Arkansas.
Kansas
Leavenworth County (Unincorporated Areas) (FEMA Docket No. 7302)
Tonganoxie Creek:
Approximately 4,500 feet downstream of Washington Street | *834
Approximately 3,800 feet downstream of Washington Street | *835
Approximately 1,700 feet upstream of 218th Street | *863
Unnamed Tributary #3:
Approximately 1,925 feet from its confluence with Tonganoxie Creek | *863
Approximately 4,450 feet upstream from its confluence with Tonganoxie Creek | *872
Maps are available for inspection at the Leavenworth County Courthouse, 300 Walnut, Leavenworth, Kansas.
———
Tonganoxie (city), Leavenworth County (FEMA Docket No. 7302)
Tonganoxie Creek:
Approximately 4,500 feet downstream of Fourth Street | *843
Approximately 3,300 feet downstream of Fourth Street | *843
Approximately 100 feet upstream of 218th Street | *862
Unnamed Tributary #3:
At its confluence with Tonganoxie Creek | *862
Approximately 1,925 feet upstream of its confluence with Tonganoxie Creek | *863
Maps are available for inspection at City Hall, 321 S. Delaware, Tonganoxie, Kansas.
Wyoming
Green river (town), Sweetwater County (FEMA Docket No. 7302)
Bitter Creek:
Located at the confluence of Bitter Creek with Green River | *6,075
Located approximately 2,160 feet upstream of the confluence of Bitter Creek with Green River | *6,086
Green River:
Approximately 3,200 feet downstream of the Teton Boulevard Bridge | *6,068
Located approximately 6,800 feet upstream of the Union Pacific Railroad Bridge | *6,090
Maps are available for inspection at the Community Development Department, 50 E. Second North Street, Green River, Wyoming.

(Catalog of Federal Domestic Assistance No. 83.100, “Flood Insurance”)

Dated: May 17, 2000.
Michael J. Armstrong,
Associate Director for Mitigation.

[FR Doc. 00-13998 Filed 6-2-00; 8:45 am]

BILLING CODE 6718-04-P